DEPARTMENT OF STATE

[Public Notice 7497]

60-Day Notice of Proposed Information Collection; Passport Demand Forecasting Study Phase III, 1405-0177

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Passport Demand Forecasting Study Phase III.

• OMB Control Number: OMB No. 1405-0177.

• Type of Request: Revision of a Currently Approved Collection.

• Originating Office: Bureau of Consular Affairs, Passport Services Office: CA/PPT.

• Form Number: n/a.

• Respondents: A nationally representative sample of United States citizens and other categories of individuals entitled to a U.S. Passport.

• Estimated Number of Respondents: 4,000 respondents monthly per survey.

• Estimated Number of Responses: 48,000 annually.

• Average Hours Per Response: 10 minutes.

• Total Estimated Burden: 8,000 hours annually.

• Frequency: Monthly.

• Obligation to Respond: Voluntary.

DATE(S): The Department will accept comments from the public up to 60 days from June 8, 2011.

ADDRESSES: Direct comments and questions to Rachel Arndt. You may submit comments by any of the following methods:

• E-mail: ArndtRM@state.gov.

• Mail (paper, disk, or CD-ROM submissions): Rachel Arndt, 2100 Pennsylvania Ave., NW., SA-29, Room 3006, Washington, DC 20520.

• Fax: 202-736-9272.

You must include the DS form number (if applicable), information collection title, and OMB control number in any correspondence.

FOR FURTHER INFORMATION CONTACT: Direct requests for additional information regarding the collection listed in this notice, including requests for copies of the proposed information collection and supporting documents, to Rachel Arndt, 2100 Pennsylvania Ave., NW,, SA-29, Room 3006, Washington, DC 20520, who may be reached on 202-663-2647 or at ArndtRM@state.gov.

SUPPLEMENTARY INFORMATION:

We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Section 7209 of the Intelligence Reform and Terrorism Prevention Act (IRTPA), enacted on December 17, 2004, requires the Secretary of the Department of Homeland Security (DHS), in consultation with the Secretary of State, to develop expeditiously, and implement a plan to require U.S. citizens and certain other categories of individuals to present a passport or sufficient documentation of the identity and citizenship when entering the U.S. This law has had significant effect on travel to Canada, Mexico, and the Caribbean.

CA/PPT has urgent and pressing data requirements and needs to obtain and regular statistical data on issues that focus on, and are related to, travel and passport applications that can be used to monitor, assess, and forecast passport demand on a continuous basis for the U.S. population including critical population segments near the Canadian and Mexican borders. In support of these efforts, CA/PPT plans to conduct monthly and incremental forecasts of passport demand nationally. This gathering of data will provide the opportunity to refine volume and timing estimates on demand, and will gauge public reaction to economic and socio-demographic changes.

Methodology

CA/PPT will conduct monthly panel studies that will be conducted using multiple methodologies. Methodologies can include telephone, Web/Internet, mail, and mixed mode surveys to ensure the survey reaches the appropriate audience and leverages the best research method to obtain responses given the survey topic and panel member preference. The panel data will cover an estimated 48,000 respondents and include variables covering passport, travel, and socio-demographic variables of interest to CA/PPT.

Date:June 2, 2011.
Barry J. Conway,
Acting Deputy Assistant Secretary, Passport Services, Bureau of Consular Affairs, Department of State.

[FR Doc. 2011-14176 Filed 6-7-11; 8:45 am]

BILLING CODE 4170-06-P